DEPARTMENT OF LABOR

Employment and Training Administration

Labor Surplus Area Classification Under Executive Orders 12073 and 10582

ACTION: Notice.

SUMMARY: The purpose of this notice is to announce the annual list of labor surplus areas for Fiscal Year (FY) 2007.

DATES: Effective Date: The annual list of labor surplus areas is effective October 1, 2006 for all states.

FOR FURTHER INFORMATION CONTACT: Anthony D. Dais, Office of Workforce Investment, Employment and Training Administration, 200 Constitution Avenue, NW., Room S-4231, Washington, DC 20210. Telephone: (202) 693-2784.

SUPPLEMENTARY INFORMATION: The Department of Labor regulations implementing Executive Orders 12073 and 10582 are set forth at 20 CFR Part 654, Subparts A and B. These regulations require the Assistant Secretary of Labor for the Employment and Training Administration (ETA) to classify jurisdictions as labor surplus areas pursuant to the criteria specified in the regulations and to publish annually a list of labor surplus areas. Pursuant to those regulations, the Assistant Secretary of Labor is hereby publishing the annual list of labor surplus areas.

In addition, the regulations provide exceptional circumstance criteria for classifying labor surplus areas when catastrophic events, such as natural disasters, plant closings, and contract cancellations are expected to have a long-term impact on labor market area conditions, discounting temporary or seasonal factors.

Eligible Labor Surplus Areas

Procedures for Classifying Labor Surplus Areas

Labor surplus areas are classified on the basis of civil jurisdictions rather than on metropolitan areas or labor market areas under the labor surplus area classification methodology. Civil jurisdictions are defined as all cities with a population of at least 25,000 and all counties. Townships with a population of 25,000 or more are also considered as civil jurisdictions in four states (Michigan, New Jersey, New York, and Pennsylvania). In Connecticut, Massachusetts, Puerto Rico, and Rhode Island where counties have very limited or no government functions, the classifications are done for individual towns.

A civil jurisdiction is classified as a labor surplus area when its average unemployment rate was at least 20 percent above the average unemployment rate for all states (including the District of Columbia and Puerto Rico) during the previous two calendar years. During periods of high national unemployment, the 20 percent ratio is disregarded and an area is classified as a labor surplus area if its unemployment rate during the previous two calendar years was 10 percent or more. This 10 percent ceiling concept comes into operation whenever the two-year average unemployment rate for all states was 8.3 percent or above (i.e., 8.3 percent times the 1.20 ratio equals 10.0 percent). Similarly, a “floor” concept of 6.0 percent is used during periods of low national unemployment in order for an area to qualify as a labor surplus area (LSA). The six percent “floor” comes into effect whenever the average unemployment rate for all states during the two-year reference period was 5.0 percent or less.

The Department of Labor issues the labor surplus area list on a fiscal year basis. The list becomes effective each October 1 and remains in effect through the following September 30. During the course of the fiscal year, the annual list can be updated on the basis of exceptional circumstances petitions submitted by state workforce agencies and approved by the Employment and Training Administration. The reference period used in preparing the current list was January 2004 through December 2005. The national average unemployment rate during this period (including data for Puerto Rico) was 5.4 percent. After applying the 1.20 ratio, the unemployment rate for qualifying an area as having a surplus of labor for FY 2007 is 6.5 percent. Therefore, areas are included on the current annual labor surplus area list because their average unemployment rate during the reference period was 6.5 percent or above. The FY 2007 LSA list can be accessed at http://www.doleta.gov/programs/lsa.cfm.

Petition for Exceptional Circumstances Consideration

The classification procedures also provide for the designation of labor surplus areas under exceptional circumstance criteria. These procedures permit the regular classification criteria to be waived when an area experiences a significant increase in unemployment which is not temporary or seasonal and which was not adequately reflected in the data for the two-year reference period. Under the program's exceptional circumstance procedures, labor surplus area classifications can be made on the basis of civil jurisdictions, Metropolitan Statistical Areas or Primary Metropolitan Statistical Areas. In order for an area to be classified as a labor surplus area under the exceptional circumstance criteria, the state workforce agency must submit a petition requesting such classification to the Department of Labor's Employment and Training Administration. The current conditions for exceptional circumstances classification are: An area unemployment rate of at least 6.5 percent for each of the three most recent months; projected unemployment rate of at least 6.5 percent for each of the next 12 months; and documented information that the exceptional circumstance event has already occurred. The state workforce agency may file petitions on behalf of civil jurisdictions, as well as Metropolitan Statistical Areas or Primary Metropolitan Statistical Areas, as defined by the Office of Management and Budget (OMB). The addresses of state workforce agencies are available on the LSA section of the ETA Web site at http://www.doleta.gov/programs/lsa.cfm. State workforce agencies should submit petitions in electronic format to dais.anthony@dol.gov or in hard copy to the ETA National Office, Office of Workforce Investment, 200 Constitution Ave., NW., Room S-4231, Washington, DC 20210. Data collection for the petition is approved under OMB 1205-0207, dated 11/23/2004.

State Workforce Agencies

Alabama—Department of Industrial Relations, 649 Monroe St., Montgomery 36131.

Alaska—Department of Labor & Workforce Development, P.O. Box 21149, Juneau 99802.

Arizona—Arizona Department of Economic Security, P.O. Box 6123, Phoenix 85007.

Arkansas—Employment Security Department, P.O. Box 2981, Little Rock 72203-2981.

California—Employment Development Department, 800 Capitol Mall, Sacramento 95814.

Colorado—Department of Labor and Employment, 633 17th Street, Denver 80202-3660.

Connecticut—Connecticut Department of Labor, 200 Folly Brook Boulevard, Wethersfield 06109-1114.

Delaware—Delaware Department of Labor, Division of Employment & Training, 4425 North Market Street, Wilmington 19802.

District of Columbia—Department of Employment Service, 64 New York Avenue, NE., Washington 20002.

Florida—Agency for Workforce Innovation, 107 E. Madison Street, Tallahassee 32399-6545.

Georgia—Georgia Department of Labor, 148 Andrew Young International Boulevard NE, Atlanta 30303.

Hawaii—Department of Labor and Industrial Relations, 830 Punchbowl St., Honolulu 96813.

Idaho—Department of Labor, 317 W. Main Street, Boise 83735.

Illinois—Department of Employment Security, 33 S. State Street, Chicago 60602-2802.

Indiana—Department of Workforce Development, 10 North Senate Avenue, Indianapolis 46204-2277.

Iowa—Iowa Workforce Development, 1000 Grand Avenue, Des Moines 50319.

Kansas—Kansas Department of Commerce, 1000 SW. Jackson Street, Topeka 66612-1354.

Kentucky—Department of Workforce Investment, 275 East Main Street, Frankfort 40621.

Louisiana—Department of Labor, P.O. Box 94094, Baton Rouge 70804-9094.

Maine—Department of Labor, 20 Union Street, Augusta 04332-0259.

Maryland—Department of Labor, Licensing and Regulation, 500 N. Calvert Street, Baltimore 21201.

Massachusetts—Division of Career Services, 19 Staniford Street, Boston 02114.

Michigan—Department of Labor & Economic Growth, Victor Office Center, 201 N. Washington Square, Lansing 48913.

Minnesota—Department of Employment & Economic Development, 332 Minnesota Street, St. Paul 55101.

Mississippi—Employment Security Commission, 1520 W. Capital St., P.O. Box 1699, Jackson 39215-1699.

Missouri—Department of Labor and Industrial Relations, P.O. Box 59, Jefferson City 65102.

Montana—Department of Labor and Industry, P.O. Box 1728, Helena 59624.

Nebraska—Department of Labor, 550 South 16th Street, Lincoln 68509.

Nevada—Department of Employment, Training and Rehabilitation, 500 E. Third Street, Carson City 89713.

New Hampshire—Department of Employment Security, 32 S. Main Street, Concord 03301-4857.

New Jersey—Department of Labor and Workforce Development, P.O. Box 110, Trenton 08625.

New Mexico—Department of Labor, 401 Broadway, NE., P.O. Box 1928, Albuquerque 87103.

New York—Department of Labor, State Campus-Building 12, Albany 12240.

North Carolina—Employment Security Commission, P.O. Box 25903, Raleigh 27611.

North Dakota—Job Service North Dakota, 1000 E. Divide Ave., P.O. Box 5507, Bismarck, 58506-5507.

Ohio—Department of Jobs and Family Services, 30 E. Broad Street, Columbus 43215.

Oklahoma—Employment Security Commission, 2401 North Lincoln Boulevard, Oklahoma City 73105.

Oregon—Oregon Employment Department, 875 Union St., NE., Salem 97311.

Pennsylvania—Department of Labor & Industry, 1720 Labor & Industry Bldg., Harrisburg 17121.

Puerto Rico—Department of Labor and Human Resources, 505 Munoz Rivera Avenue, Hato Rey 00936-4452.

Rhode Island—Department of Labor & Training, 1511 Pontiac Avenue, Cranston 02920-4407.

South Carolina—Employment Security Commission, P.O. Box 995, Columbia 29202.

South Dakota—Department of Labor, 700 Governors Drive, Pierre 57501-2277.

Tennessee—Division of Employment Security, 500 James Robertson Parkway, Nashville 37245-1700.

Texas—Texas Workforce Commission, 101 East 15th Street 440T, Austin 78778.

Utah—Department of Workforce Services, 140 East 300 South, PO Box 45249, Salt Lake City 84145-0249.

Vermont—Department of Labor, 5 Green Mountain Drive, Montpelier 05601-0488.

Virginia—Virginia Employment Commission, 703 East Main Street, Richmond 12119.

Washington—Employment Security Department, P.O. Box 9046, Olympia 98507-9046.

West Virginia—Bureau of Employment Programs, 112 California Ave., Charleston 25305-0112.

Wisconsin—Department of Workforce Development, 201 East Washington Avenue, Madison 53702.

Wyoming—Department of Employment, 1510 E. Pershing Boulevard, Cheyenne 82002.

Signed at Washington, DC this 16th day of November, 2006.
Gay Gilbert,
Administrator, Office of Workforce Investment.

Labor Surplus Areas
October 1, 2006 Through September 30, 2007
Eligible labor surplus areas | Civil jurisdictions included
ALABAMA
ANNISTON CITY | ANNISTON CITY IN CALHOUN COUNTY.
BESSEMER CITY | BESSEMER CITY IN JEFFERSON COUNTY.
BULLOCK COUNTY | BULLOCK COUNTY.
BUTLER COUNTY | BUTLER COUNTY.
CHOCTAW COUNTY | CHOCTAW COUNTY.
CLARKE COUNTY | CLARKE COUNTY.
CONECUH COUNTY | CONECUH COUNTY.
DALLAS COUNTY | DALLAS COUNTY.
GADSDEN CITY | GADSDEN CITY IN ETOWAH COUNTY.
GREENE COUNTY | GREENE COUNTY.
LOWNDES COUNTY | LOWNDES COUNTY.
PERRY COUNTY | PERRY COUNTY.
PRICHARD CITY | PRICHARD CITY IN MOBILE COUNTY.
SUMTER COUNTY | SUMTER COUNTY.
WASHINGTON COUNTY | WASHINGTON COUNTY.
WILCOX COUNTY | WILCOX COUNTY.
ALASKA
ALEUTIANS EAST BOROUGH | ALEUTIANS EAST BOROUGH.
BETHEL CENSUS AREA | BETHEL CENSUS AREA.
DENALI BOROUGH | DENALI BOROUGH.
DILLINGHAM CENSUS AREA | DILLINGHAM CENSUS AREA.
FAIRBANKS CITY | FAIRBANKS CITY IN FAIRBANKS NORTH STAR BOROUGH.
HAINES BOROUGH | HAINES BOROUGH.
KENAI PENINSULA BOROUGH | KENAI PENINSULA BOROUGH.
KETCHIKAN GATEWAY BOROUGH | KETCHIKAN GATEWAY BOROUGH.
KODIAK ISLAND BOROUGH | KODIAK ISLAND BOROUGH.
LAKE AND PENINSULA BOROUGH | LAKE AND PENINSULA BOROUGH.
MATANUSKA-SUSITNA BOROUGH | MATANUSKA-SUSITNA BOROUGH.
NOME CENSUS AREA | NOME CENSUS AREA.
NORTH SLOPE BOROUGH | NORTH SLOPE BOROUGH.
NORTHWEST ARCTIC BOROUGH | NORTHWEST ARCTIC BOROUGH.
PRINCE OF WALES OUTER KETCHIKAN | PRINCE OF WALES OUTER KETCHIKAN.
SKAGWAY-HOONAH-ANGOON CEN AREA | SKAGWAY-HOONAH-ANGOON CEN AREA.
SOUTHEAST FAIRBANKS CENSUS AREA | SOUTHEAST FAIRBANKS CENSUS AREA.
VALDEZ CORDOVA CENSUS AREA | VALDEZ CORDOVA CENSUS AREA.
WADE HAMPTON CENSUS AREA | WADE HAMPTON CENSUS AREA.
WRANGELL-PETERSBURG CENSUS AREA | WRANGELL-PETERSBURG CENSUS AREA.
YAKUTAT BOROUGH | YAKUTAT BOROUGH.
YUKON-KOYUKUK CENSUS AREA | YUKON-KOYUKUK CENSUS AREA.
ARIZONA
APACHE COUNTY | APACHE COUNTY.
GRAHAM COUNTY | GRAHAM COUNTY.
LA PAZ COUNTY | LA PAZ COUNTY.
NAVAJO COUNTY | NAVAJO COUNTY.
SANTA CRUZ COUNTY | SANTA CRUZ COUNTY.
YUMA CITY | YUMA CITY IN YUMA COUNTY.
YUMA COUNTY | YUMA COUNTY.
ARKANSAS
ASHLEY COUNTY | ASHLEY COUNTY.
BRADLEY COUNTY | BRADLEY COUNTY.
CALHOUN COUNTY | CALHOUN COUNTY.
CHICOT COUNTY | CHICOT COUNTY.
CLAY COUNTY | CLAY COUNTY.
CRITTENDEN COUNTY | CRITTENDEN COUNTY.
CROSS COUNTY | CROSS COUNTY.
DALLAS COUNTY | DALLAS COUNTY.
DESHA COUNTY | DESHA COUNTY.
DREW COUNTY | DREW COUNTY.
HOT SPRINGS CITY | HOT SPRINGS CITY IN GARLAND COUNTY.
JACKSON COUNTY | JACKSON COUNTY.
JEFFERSON COUNTY | JEFFERSON COUNTY.
LAFAYETTE COUNTY | LAFAYETTE COUNTY.
LAWRENCE COUNTY | LAWRENCE COUNTY.
LEE COUNTY | LEE COUNTY.
LINCOLN COUNTY | LINCOLN COUNTY.
MISSISSIPPI COUNTY | MISSISSIPPI COUNTY.
MONROE COUNTY | MONROE COUNTY.
OUACHITA COUNTY | OUACHITA COUNTY.
PHILLIPS COUNTY | PHILLIPS COUNTY.
PINE BLUFF CITY | PINE BLUFF CITY IN JEFFERSON COUNTY.
RANDOLPH COUNTY | RANDOLPH COUNTY.
SHARP COUNTY | SHARP COUNTY.
ST. FRANCIS COUNTY | ST. FRANCIS COUNTY.
STONE COUNTY | STONE COUNTY.
UNION COUNTY | UNION COUNTY.
WEST MEMPHIS CITY | WEST MEMPHIS CITY IN CRITTENDEN COUNTY.
WOODRUFF COUNTY | WOODRUFF COUNTY.
CALIFORNIA
ALPINE COUNTY | ALPINE COUNTY.
AZUSA CITY | AZUSA CITY IN LOS ANGELES COUNTY.
BALDWIN PARK CITY | BALDWIN PARK CITY IN LOS ANGELES COUNTY.
BELL CITY | BELL CITY IN LOS ANGELES COUNTY.
BELL GARDENS CITY | BELL GARDENS CITY IN LOS ANGELES COUNTY.
BUTTE COUNTY | BUTTE COUNTY.
CALEXICO CITY | CALEXICO CITY IN IMPERIAL COUNTY.
CERES CITY | CERES CITY IN STANISLAUS COUNTY.
COACHELLA CITY | COACHELLA CITY IN RIVERSIDE COUNTY.
COLUSA COUNTY | COLUSA COUNTY.
COMPTON CITY | COMPTON CITY IN LOS ANGELES COUNTY.
CUDAHY CITY | CUDAHY CITY IN LOS ANGELES COUNTY.
DEL NORTE COUNTY | DEL NORTE COUNTY.
DELANO CITY | DELANO CITY IN KERN COUNTY.
EAST PALO ALTO CITY | EAST PALO ALTO CITY IN SAN MATEO COUNTY.
EL CENTRO CITY | EL CENTRO CITY IN IMPERIAL COUNTY.
EL MONTE CITY | EL MONTE CITY IN LOS ANGELES COUNTY.
EUREKA CITY | EUREKA CITY IN HUMBOLDT COUNTY.
FRESNO CITY | FRESNO CITY IN FRESNO COUNTY.
FRESNO COUNTY | FRESNO COUNTY.
GILROY CITY | GILROY CITY IN SANTA CLARA COUNTY.
GLENN COUNTY | GLENN COUNTY.
HANFORD CITY | HANFORD CITY IN KINGS COUNTY.
HAWTHORNE CITY | HAWTHORNE CITY IN LOS ANGELES COUNTY.
HEMET CITY | HEMET CITY IN RIVERSIDE COUNTY.
HESPERIA CITY | HESPERIA CITY IN SAN BERNARDINO COUNTY.
HIGHLAND CITY | HIGHLAND CITY IN SAN BERNARDINO COUNTY.
HOLISTER CITY | HOLISTER CITY IN SAN BENITO COUNTY.
HUNTINGTON PARK CITY | HUNTINGTON PARK CITY IN LOS ANGELES COUNTY.
IMPERIAL BEACH CITY | IMPERIAL BEACH CITY IN SAN DIEGO COUNTY.
IMPERIAL COUNTY | IMPERIAL COUNTY.
INGLEWOOD CITY | INGLEWOOD CITY IN LOS ANGELES COUNTY.
KERN COUNTY | KERN COUNTY.
KINGS COUNTY | KINGS COUNTY.
LA PUENTE CITY | LA PUENTE CITY IN LOS ANGELES COUNTY.
LAKE COUNTY | LAKE COUNTY.
LANCASTER CITY | LANCASTER CITY IN LOS ANGELES COUNTY.
LASSEN COUNTY | LASSEN COUNTY.
LOMPOC CITY | LOMPOC CITY IN SANTA BARBARA COUNTY.
LONG BEACH CITY | LONG BEACH CITY IN LOS ANGELES COUNTY.
LOS ANGELES CITY | LOS ANGELES CITY IN LOS ANGELES COUNTY.
LOS BANOS CITY | LOS BANOS CITY IN MERCED COUNTY.
LYNWOOD CITY | LYNWOOD CITY IN LOS ANGELES COUNTY.
MADERA CITY | MADERA CITY IN MADERA COUNTY.
MADERA COUNTY | MADERA COUNTY.
MANTECA CITY | MANTECA CITY IN SAN JOAQUIN COUNTY.
MAYWOOD CITY | MAYWOOD CITY IN LOS ANGELES COUNTY.
MERCED CITY | MERCED CITY IN MERCED COUNTY.
MERCED COUNTY | MERCED COUNTY.
MODESTO CITY | MODESTO CITY IN STANISLAUS COUNTY.
MODOC COUNTY | MODOC COUNTY.
MONTEBELLO CITY | MONTEBELLO CITY IN LOS ANGELES COUNTY.
MONTEREY COUNTY | MONTEREY COUNTY.
MORGAN HILL CITY | MORGAN HILL CITY IN SANTA CLARA COUNTY.
NATIONAL CITY | NATIONAL CITY IN SAN DIEGO COUNTY.
OAKLAND CITY | OAKLAND CITY IN ALAMEDA COUNTY.
OXNARD CITY | OXNARD CITY IN VENTURA COUNTY.
PALMDALE CITY | PALMDALE CITY IN LOS ANGELES COUNTY.
PARAMOUNT CITY | PARAMOUNT CITY IN LOS ANGELES COUNTY.
PERRIS CITY | PERRIS CITY IN RIVERSIDE COUNTY.
PITTSBURG CITY | PITTSBURG CITY IN CONTRA COSTA COUNTY.
PLUMAS COUNTY | PLUMAS COUNTY.
POMONA CITY | POMONA CITY IN LOS ANGELES COUNTY.
PORTERVILLE CITY | PORTERVILLE CITY IN TULARE COUNTY.
RIALTO CITY | RIALTO CITY IN SAN BERNARDINO COUNTY.
RICHMOND CITY | RICHMOND CITY IN CONTRA COSTA COUNTY.
SALINAS CITY | SALINAS CITY IN MONTEREY COUNTY.
SAN BENITO COUNTY | SAN BENITO COUNTY.
SAN BERNARDINO CITY | SAN BERNARDINO CITY IN SAN BERNARDINO COUNTY.
SAN JACINTO CITY | SAN JACINTO CITY IN RIVERSIDE COUNTY.
SAN JOAQUIN COUNTY | SAN JOAQUIN COUNTY.
SAN JOSE CITY | SAN JOSE CITY IN SANTA CLARA COUNTY.
SAN PABLO CITY | SAN PABLO CITY IN CONTRA COSTA COUNTY.
SANTA ANA CITY | SANTA ANA CITY IN ORANGE COUNTY.
SANTA CRUZ COUNTY | SANTA CRUZ COUNTY.
SANTA MARIA CITY | SANTA MARIA CITY IN SANTA BARBARA COUNTY.
SANTA PAULA CITY | SANTA PAULA CITY IN VENTURA COUNTY.
SHASTA COUNTY | SHASTA COUNTY.
SIERRA COUNTY | SIERRA COUNTY.
SISKIYOU COUNTY | SISKIYOU COUNTY.
SOUTH GATE CITY | SOUTH GATE CITY IN LOS ANGELES COUNTY.
STANISLAUS COUNTY | STANISLAUS COUNTY.
STANTON CITY | STANTON CITY IN ORANGE COUNTY.
STOCKTON CITY | STOCKTON CITY IN SAN JOAQUIN COUNTY.
SUTTER COUNTY | SUTTER COUNTY.
BALANCE OF SUTTER COUNTY | SUTTER COUNTY LESS.
TEHAMA COUNTY | TEHAMA COUNTY.
TRINITY COUNTY | TRINITY COUNTY.
TULARE CITY | TULARE CITY IN TULARE COUNTY.
TULARE COUNTY | TULARE COUNTY.
TUOLUMNE COUNTY | TUOLUMNE COUNTY.
TURLOCK CITY | TURLOCK CITY IN STANISLAUS COUNTY.
TWENTYNINE PALMS CITY | TWENTYNINE PALMS CITY IN SAN BERNARDINO COUNTY.
VALLEJO CITY | VALLEJO CITY IN SOLANO COUNTY.
VICTORVILLE CITY | VICTORVILLE CITY IN SAN BERNARDINO COUNTY.
WATSONVILLE CITY | WATSONVILLE CITY IN SANTA CRUZ COUNTY.
WEST SACRAMENTO CITY | WEST SACRAMENTO CITY IN YOLO COUNTY.
WOODLAND CITY | WOODLAND CITY IN YOLO COUNTY.
YUBA CITY | YUBA CITY IN SUTTER COUNTY.
YUBA COUNTY | YUBA COUNTY.
COLORADO
AURORA CITY | AURORA CITY IN ADAMS COUNTY. ARAPAHOE COUNTY.
BENT COUNTY | BENT COUNTY.
CONEJOS COUNTY | CONEJOS COUNTY.
COSTILLA COUNTY | COSTILLA COUNTY.
CROWLEY COUNTY | CROWLEY COUNTY.
DOLORES COUNTY | DOLORES COUNTY.
FREMONT COUNTY | FREMONT COUNTY.
HUERFANO COUNTY | HUERFANO COUNTY.
OTERO COUNTY | OTERO COUNTY.
PUEBLO CITY | PUEBLO CITY IN PUEBLO COUNTY.
PUEBLO COUNTY | PUEBLO COUNTY.
SAGUACHE COUNTY | SAGUACHE COUNTY.
SAN JUAN COUNTY | SAN JUAN COUNTY.
CONNECTICUT
BRIDGEPORT CITY | BRIDGEPORT CITY.
EAST HARTFORD CITY | EAST HARTFORD CITY.
HARTFORD CITY | HARTFORD CITY.
NEW BRITAIN CITY | NEW BRITAIN CITY.
NEW HAVEN CITY | NEW HAVEN CITY.
WATERBURY CITY | WATERBURY CITY.
WINDHAM TOWN | WINDHAM TOWN.
DISTRICT OF COLUMBIA
DISTRICT OF COLUMBIA | DISTRICT OF COLUMBIA.
FLORIDA
FORT PIERCE CITY | FORT PIERCE CITY IN ST. LUCIE COUNTY.
HENDRY COUNTY | HENDRY COUNTY.
LAUDERDALE LAKES CITY | LAUDERDALE LAKES CITY IN BROWARD COUNTY.
RIVIERA BEACH CITY | RIVIERA BEACH CITY IN PALM BEACH COUNTY.
GEORGIA
ALBANY CITY | ALBANY CITY IN DOUGHERTY COUNTY.
ATKINSON COUNTY | ATKINSON COUNTY.
ATLANTA CITY | ATLANTA CITY IN DE KALB COUNTY. FULTON COUNTY.
AUGUSTA CITY | AUGUSTA CITY IN RICHMOND COUNTY.
BLECKLEY COUNTY | BLECKLEY COUNTY.
BURKE COUNTY | BURKE COUNTY.
CALHOUN COUNTY | CALHOUN COUNTY.
CHATTAHOOCHEE COUNTY | CHATTAHOOCHEE COUNTY.
DECATUR COUNTY | DECATUR COUNTY.
DOOLY COUNTY | DOOLY COUNTY.
EAST POINT CITY | EAST POINT CITY IN FULTON COUNTY.
GREENE COUNTY | GREENE COUNTY.
HANCOCK COUNTY | HANCOCK COUNTY.
JEFF DAVIS COUNTY | JEFF DAVIS COUNTY.
JEFFERSON COUNTY | JEFFERSON COUNTY.
LINCOLN COUNTY | LINCOLN COUNTY.
MACON CITY | MACON CITY IN BIBB COUNTY.
| JONES COUNTY.
MACON COUNTY | MACON COUNTY.
MC DUFFIE COUNTY | MC DUFFIE COUNTY.
MERIWETHER COUNTY | MERIWETHER COUNTY.
PEACH COUNTY | PEACH COUNTY.
QUITMAN COUNTY | QUITMAN COUNTY.
RANDOLPH COUNTY | RANDOLPH COUNTY.
RICHMOND COUNTY | RICHMOND COUNTY.
SPALDING COUNTY | SPALDING COUNTY.
STEWARD COUNTY | STEWARD COUNTY.
SUMTER COUNTY | SUMTER COUNTY.
TALBOT COUNTY | TALBOT COUNTY.
TALIAFERRO COUNTY | TALIAFERRO COUNTY.
TAYLOR COUNTY | TAYLOR COUNTY.
TELFAIR COUNTY | TELFAIR COUNTY.
TERRELL COUNTY | TERRELL COUNTY.
TREUTLEN COUNTY | TREUTLEN COUNTY.
UPSON COUNTY | UPSON COUNTY.
WARREN COUNTY | WARREN COUNT.
WEBSTER COUNTY | WEBSTER COUNTY.
WHEELER COUNTY | WHEELER COUNTY.
WILKES COUNTY | WILKES COUNTY.
IDAHO
ADAMS COUNTY | ADAMS COUNTY.
BENEWAH COUNTY | BENEWAH COUNTY.
BOUNDARY COUNTY | BOUNDARY COUNTY.
CLEARWATER COUNTY | CLEARWATER COUNTY.
IDAHO COUNTY | IDAHO COUNTY.
MINIDOKA COUNTY | MINIDOKA COUNTY.
PAYETTE COUNTY | PAYETTE COUNTY.
SHOSHONE COUNTY | SHOSHONE COUNTY.
ILLINOIS
ADDISON VILLAGE | ADDISON VILLAGE IN DU PAGE COUNTY.
ALEXANDER COUNTY | ALEXANDER COUNTY.
ALTON CITY | ALTON CITY IN MADISON COUNTY.
AURORA CITY | AURORA CITY IN DU PAGE COUNTY.
| KANE COUNTY.
BELLEVILLE CITY | BELLEVILLE CITY IN ST. CLAIR COUNTY.
BERWYN CITY | BERWYN CITY IN COOK COUNTY.
BOONE COUNTY | BOONE COUNTY.
CALUMET CITY | CALUMET CITY IN COOK COUNTY.
CARPENTERSVILLE CITY | CARPENTERSVILLE CITY IN KANE COUNTY.
CARROLL COUNTY | CARROLL COUNTY.
CHICAGO CITY | CHICAGO CITY IN COOK COUNTY.
CHICAGO HEIGHTS CITY | CHICAGO HEIGHTS CITY IN COOK COUNTY.
CICERO CITY | CICERO CITY IN COOK COUNTY.
COOK COUNTY | COOK COUNTY.
DANVILLE CITY | DANVILLE CITY IN VERMILION COUNTY.
DECATUR CITY | DECATUR CITY IN MACON COUNTY.
DES PLAINES CITY | DES PLAINES CITY IN COOK COUNTY.
DOLTON VILLAGE | DOLTON VILLAGE IN COOK COUNTY.
EAST ST. LOUIS CITY | EAST ST. LOUIS CITY IN ST. CLAIR COUNTY.
ELGIN CITY | ELGIN CITY IN COOK COUNTY.
| KANE COUNTY.
FAYETTE COUNTY | FAYETTE COUNTY.
FRANKLIN COUNTY | FRANKLIN COUNTY.
FREEPORT CITY | FREEPORT CITY IN STEPHENSON COUNTY.
GALESBURG CITY | GALESBURG CITY IN KNOX COUNTY.
GALLATIN COUNTY | GALLATIN COUNTY.
GRANITE CITY | GRANITE CITY IN MADISON COUNTY.
GRUNDY COUNTY | GRUNDY COUNTY.
HANOVER PARK VILLAGE | HANOVER PARK VILLAGE IN COOK COUNTY.
| DU PAGE COUNTY.
HARDIN COUNTY | HARDIN COUNTY.
HARVEY CITY | HARVEY CITY IN COOK COUNTY.
JOHNSON COUNTY | JOHNSON COUNTY.
JOLIET CITY | JOLIET CITY IN WILL COUNTY.
KANKAKEE CITY | KANKAKEE CITY IN KANKAKEE COUNTY.
KANKAKEE COUNTY | KANKAKEE COUNTY.
KNOX COUNTY | KNOX COUNTY.
LA SALLE COUNTY | LA SALLE COUNTY.
LANSING VILLAGE | LANSING VILLAGE IN COOK COUNTY.
MACON COUNTY | MACON COUNTY.
MARION COUNTY | MARION COUNTY.
MASON COUNTY | MASON COUNTY.
MAYWOOD VILLAGE | MAYWOOD VILLAGE IN COOK COUNTY.
MONTGOMERY COUNTY | MONTGOMERY COUNTY.
NORTH CHICAGO CITY | NORTH CHICAGO CITY IN LAKE COUNTY.
PARK FOREST VILLAGE | PARK FOREST VILLAGE IN COOK COUNTY. WILL COUNTY.
PERRY COUNTY | PERRY COUNTY.
POPE COUNTY | POPE COUNTY.
PULASKI COUNTY | PULASKI COUNTY.
ROCKFORD CITY | ROCKFORD CITY IN WINNEBAGO COUNTY.
SALINE COUNTY | SALINE COUNTY.
SCOTT COUNTY | SCOTT COUNTY.
ST. CLAIR COUNTY | ST. CLAIR COUNTY.
STARK COUNTY | STARK COUNTY.
UNION COUNTY | UNION COUNTY.
VERMILION COUNTY | VERMILION COUNTY.
WAUKEGAN CITY | WAUKEGAN CITY IN LAKE COUNTY.
WEST CHICAGO CITY | WEST CHICAGO CITY IN DU PAGE COUNTY.
WINNEBAGO COUNTY | WINNEBAGO COUNTY.
INDIANA
ANDERSON CITY | ANDERSON CITY IN MADISON COUNTY.
BLACKFORD COUNTY | BLACKFORD COUNTY.
CLAY COUNTY | CLAY COUNTY.
CRAWFORD COUNTY | CRAWFORD COUNTY.
EAST CHICAGO CITY | EAST CHICAGO CITY IN LAKE COUNTY.
ELKHART CITY | ELKHART CITY IN ELKHART COUNTY.
FAYETTE COUNTY | FAYETTE COUNTY.
GARY CITY | GARY CITY IN LAKE COUNTY.
GRANT COUNTY | GRANT COUNTY.
HAMMOND CITY | HAMMOND CITY IN LAKE COUNTY.
HENRY COUNTY | HENRY COUNTY.
HOWARD COUNTY | HOWARD COUNTY.
BALANCE OF HOWARD COUNTY | HOWARD COUNTY LESS.
KOKOMO CITY | KOKOMO CITY IN HOWARD COUNTY.
LAWRENCE COUNTY | LAWRENCE COUNTY.
MARION CITY | MARION CITY IN GRANT COUNTY.
MIAMI COUNTY | MIAMI COUNTY.
MICHIGAN CITY | MICHIGAN CITY IN LA PORTE COUNTY.
MUNCIE CITY | MUNCIE CITY IN DELAWARE COUNTY.
ORANGE COUNTY | ORANGE COUNTY.
RANDOLPH COUNTY | RANDOLPH COUNTY.
RICHMOND CITY | RICHMOND CITY IN WAYNE COUNTY.
SOUTH BEND CITY | SOUTH BEND CITY IN ST. JOSEPH COUNTY.
STARKE COUNTY | STARKE COUNTY.
SULLIVAN COUNTY | SULLIVAN COUNTY.
TERRE HAUTE CITY | TERRE HAUTE CITY IN VIGO COUNTY.
VERMILLION COUNTY | VERMILLION COUNTY.
VIGO COUNTY | VIGO COUNTY.
WABASH COUNTY | WABASH COUNTY.
WAYNE COUNTY | WAYNE COUNTY.
IOWA
BURLINGTON CITY | BURLINGTON CITY IN DES MOINES COUNTY.
CLAYTON COUNTY | CLAYTON COUNTY.
LEE COUNTY | LEE COUNTY.
KANSAS
CHEROKEE COUNTY | CHEROKEE COUNTY.
DONIPHAN COUNTY | DONIPHAN COUNTY.
GEARY COUNTY | GEARY COUNTY.
HUTCHINSON CITY | HUTCHINSON CITY IN RENO COUNTY.
KANSAS CITY KN | KANSAS CITY KN IN WYANDOTTE COUNTY.
LABETTE COUNTY | LABETTE COUNTY.
LEAVENWORTH CITY | LEAVENWORTH CITY IN LEAVENWORTH COUNTY.
LINN COUNTY | LINN COUNTY.
MONTGOMERY COUNTY | MONTGOMERY COUNTY.
OSAGE COUNTY | OSAGE COUNTY.
SUMNER COUNTY | SUMNER COUNTY.
TOPEKA CITY | TOPEKA CITY IN SHAWNEE COUNTY.
WICHITA CITY | WICHITA CITY IN SEDGWICK COUNTY.
WOODSON COUNTY | WOODSON COUNTY.
WYANDOTTE COUNTY | WYANDOTTE COUNTY.
KENTUCKY
ALLEN COUNTY | ALLEN COUNTY.
BALLARD COUNTY | BALLARD COUNTY.
BATH COUNTY | BATH COUNTY.
BELL COUNTY | BELL COUNTY.
BOYLE COUNTY | BOYLE COUNTY.
BREATHITT COUNTY | BREATHITT COUNTY.
BRECKINRIDGE COUNTY | BRECKINRIDGE COUNTY.
BUTLER COUNTY | BUTLER COUNTY.
CARLISLE COUNTY | CARLISLE COUNTY.
CARTER COUNTY | CARTER COUNTY.
CHRISTIAN COUNTY | CHRISTIAN COUNTY.
CLAY COUNTY | CLAY COUNTY.
CLINTON COUNTY | CLINTON COUNTY.
CUMBERLAND COUNTY | CUMBERLAND COUNTY.
EDMONSON COUNTY | EDMONSON COUNTY.
ELLIOTT COUNTY | ELLIOTT COUNTY.
ESTILL COUNTY | ESTILL COUNTY.
FLOYD COUNTY | FLOYD COUNTY.
FULTON COUNTY | FULTON COUNTY.
GRAVES COUNTY | GRAVES COUNTY.
GRAYSON COUNTY | GRAYSON COUNTY.
HARLAN COUNTY | HARLAN COUNTY.
HICKMAN COUNTY | HICKMAN COUNTY.
JACKSON COUNTY | JACKSON COUNTY.
JOHNSON COUNTY | JOHNSON COUNTY.
KNOTT COUNTY | KNOTT COUNTY.
KNOX COUNTY | KNOX COUNTY.
LAWRENCE COUNTY | LAWRENCE COUNTY.
LEE COUNTY | LEE COUNTY.
LESLIE COUNTY | LESLIE COUNTY.
LETCHER COUNTY | LETCHER COUNTY.
LEWIS COUNTY | LEWIS COUNTY.
LINCOLN COUNTY | LINCOLN COUNTY.
LYON COUNTY | LYON COUNTY.
MAGOFFIN COUNTY | MAGOFFIN COUNTY.
MARSHALL COUNTY | MARSHALL COUNTY.
MARTIN COUNTY | MARTIN COUNTY.
MCCREARY COUNTY | MCCREARY COUNTY.
MCLEAN COUNTY | MCLEAN COUNTY.
MEADE COUNTY | MEADE COUNTY.
KENTUCKY
MENIFEE COUNTY | MENIFEE COUNTY.
MONTGOMERY COUNTY | MONTGOMERY COUNTY.
MORGAN COUNTY | MORGAN COUNTY.
MUHLENBERG COUNTY | MUHLENBERG COUNTY.
NICHOLAS COUNTY | NICHOLAS COUNTY.
OHIO COUNTY | OHIO COUNTY.
OWSLEY COUNTY | OWSLEY COUNTY.
PADUCAH CITY | PADUCAH CITY IN MCCRACKEN COUNTY.
PERRY COUNTY | PERRY COUNTY.
PIKE COUNTY | PIKE COUNTY.
POWELL COUNTY | POWELL COUNTY.
ROBERTSON COUNTY | ROBERTSON COUNTY.
ROCKCASTLE COUNTY | ROCKCASTLE COUNTY.
WOLFE COUNTY | WOLFE COUNTY.
LOUISIANA
ALEXANDRIA CITY | ALEXANDRIA CITY IN RAPIDES PARISH.
ALLEN PARISH | ALLEN PARISH.
ASSUMPTION PARISH | ASSUMPTION PARISH.
AVOYELLES PARISH | AVOYELLES PARISH.
BATON ROUGE CITY | BATON ROUGE CITY IN EAST BATON ROUGE PARISH.
BEAUREGARD PARISH | BEAUREGARD PARISH.
BIENVILLE PARISH | BIENVILLE PARISH.
CALCASIEU PARISH | CALCASIEU PARISH.
CALDWELL PARISH | CALDWELL PARISH.
CATAHOULA PARISH | CATAHOULA PARISH.
CONCORDIA PARISH | CONCORDIA PARISH.
DE SOTO PARISH | DE SOTO PARISH.
EAST CARROLL PARISH | EAST CARROLL PARISH.
EAST FELICIANA PARISH | EAST FELICIANA PARISH.
EVANGELINE PARISH | EVANGELINE PARISH.
FRANKLIN PARISH | FRANKLIN PARISH.
IBERIA PARISH | IBERIA PARISH.
BALANCE OF IBERIA PARISH | IBERIA PARISH LESS.
IBERVILLE PARISH | IBERVILLE PARISH.
LAKE CHARLES CITY | LAKE CHARLES CITY IN CALCASIEU PARISH.
MADISON PARISH | MADISON PARISH.
MONROE CITY | MONROE CITY IN OUACHITA PARISH.
MOREHOUSE PARISH | MOREHOUSE PARISH.
NATCHITOCHES PARISH | NATCHITOCHES PARISH.
NEW IBERIA CITY | NEW IBERIA CITY IN IBERIA PARISH.
POINTE COUPEE PARISH | POINTE COUPEE PARISH.
RED RIVER PARISH | RED RIVER PARISH.
RICHLAND PARISH | RICHLAND PARISH.
ST. HELENA PARISH | ST. HELENA PARISH.
ST. JAMES PARISH | ST. JAMES PARISH.
ST. LANDRY PARISH | ST. LANDRY PARISH.
ST. MARY PARISH | ST. MARY PARISH.
TANGIPAHOA PARISH | TANGIPAHOA PARISH.
TENSAS PARISH | TENSAS PARISH.
WASHINGTON PARISH | WASHINGTON PARISH.
WEBSTER PARISH | WEBSTER PARISH.
WEST BATON ROUGE PARISH | WEST BATON ROUGE PARISH.
WEST CARROLL PARISH | WEST CARROLL PARISH.
WEST FELICIANA PARISH | WEST FELICIANA PARISH.
WINN PARISH | WINN PARISH.
MAINE
AROOSTOOK COUNTY | AROOSTOOK COUNTY.
PISCATAQUIS COUNTY | PISCATAQUIS COUNTY.
SOMERSET COUNTY | SOMERSET COUNTY.
WASHINGTON COUNTY | WASHINGTON COUNTY.
MARYLAND
BALTIMORE CITY | BALTIMORE CITY.
HAGERSTOWN CITY | HAGERSTOWN CITY IN WASHINGTON COUNTY.
WORCESTER COUNTY | WORCESTER COUNTY.
MASSACHUSETTS
BROCKTON CITY | BROCKTON CITY IN PLYMOUTH COUNTY.
CHELSEA CITY | CHELSEA CITY IN SUFFOLK COUNTY.
FALL RIVER CITY | FALL RIVER CITY IN BRISTOL COUNTY.
FITCHBURG CITY | FITCHBURG CITY IN WORCESTER COUNTY.
FLORIDA TOWN | FLORIDA TOWN IN BERKSHIRE COUNTY.
GARDNER TOWN | GARDNER TOWN IN WORCESTER COUNTY.
HOLYOKE CITY | HOLYOKE CITY IN HAMPDEN COUNTY.
LAWRENCE CITY | LAWRENCE CITY IN ESSEX COUNTY.
LOWELL CITY | LOWELL CITY IN MIDDLESEX COUNTY.
MONROE TOWN | MONROE TOWN IN FRANKLIN COUNTY.
NEW BEDFORD CITY | NEW BEDFORD CITY IN BRISTOL COUNTY.
PROVINCETOWN TOWN | PROVINCETOWN TOWN IN BARNSTABLE COUNTY.
SOUTHBRIDGE TOWN | SOUTHBRIDGE TOWN IN WORCESTER COUNTY.
SPRINGFIELD CITY | SPRINGFIELD CITY IN HAMPDEN COUNTY.
TEMPLETON TOWN | TEMPLETON TOWN IN WORCESTER COUNTY.
TRURO TOWN | TRURO TOWN IN BARNSTABLE COUNTY.
WARWICK TOWN | WARWICK TOWN IN FRANKLIN COUNTY.
MICHIGAN
ALCONA COUNTY | ALCONA COUNTY.
ALGER COUNTY | ALGER COUNTY.
ALPENA COUNTY | ALPENA COUNTY.
ANTRIM COUNTY | ANTRIM COUNTY.
ARENAC COUNTY | ARENAC COUNTY.
BARAGA COUNTY | BARAGA COUNTY.
BATTLE CREEK CITY | BATTLE CREEK CITY IN CALHOUN COUNTY.
BAY CITY | BAY CITY IN BAY COUNTY.
BAY COUNTY | BAY COUNTY.
BENZIE COUNTY | BENZIE COUNTY.
BERRIEN COUNTY | BERRIEN COUNTY.
BRANCH COUNTY | BRANCH COUNTY.
CALHOUN COUNTY | CALHOUN COUNTY.
CHARLEVOIX COUNTY | CHARLEVOIX COUNTY.
CHEBOYGAN COUNTY | CHEBOYGAN COUNTY.
CHIPPEWA COUNTY | CHIPPEWA COUNTY.
CLARE COUNTY | CLARE COUNTY.
CLINTON TOWNSHIP | CLINTON TOWNSHIP IN MACOMB COUNTY.
CRAWFORD COUNTY | CRAWFORD COUNTY.
DELTA COUNTY | DELTA COUNTY.
DETROIT CITY | DETROIT CITY IN WAYNE COUNTY.
EAST LANSING CITY | EAST LANSING CITY IN INGHAM COUNTY.
EASTPOINTE CITY | EASPOINTE CITY IN EMMET COUNTY.
FLINT CITY | FLINT CITY IN GENESEE COUNTY.
FLINT TOWNSHIP | FLINT TOWNSHIP IN GENESEE COUNTY.
GENESEE COUNTY | GENESEE COUNTY.
GLADWIN COUNTY | GLADWIN COUNTY.
GOGEBIC COUNTY | GOGEBIC COUNTY.
GRAND RAPIDS CITY | GRAND RAPIDS CITY IN KENT COUNTY.
GRATIOT COUNTY | GRATIOT COUNTY.
HIGHLAND PARK CITY | HIGHLAND PARK CITY IN WAYNE COUNTY.
HILLSDALE COUNTY | HILLSDALE COUNTY.
HOLLAND CITY | HOLLAND CITY IN ALLEGAN COUNTY. OTTAWA COUNTY.
HURON COUNTY | HURON COUNTY.
INKSTER CITY | INKSTER CITY IN WAYNE COUNTY.
IONIA COUNTY | IONIA COUNTY.
IOSCO COUNTY | IOSCO COUNTY.
IRON COUNTY | IRON COUNTY.
JACKSON CITY | JACKSON CITY IN JACKSON COUNTY.
JACKSON COUNTY | JACKSON COUNTY.
KALAMAZOO CITY | KALAMAZOO CITY IN KALAMAZOO COUNTY.
KALKASKA COUNTY | KALKASKA COUNTY.
KEWEENAW COUNTY | KEWEENAW COUNTY.
LAKE COUNTY | LAKE COUNTY.
LANSING CITY | LANSING CITY IN EATON COUNTY.
LAPEER COUNTY | LAPEER COUNTY.
LENAWEE COUNTY | LENAWEE COUNTY.
LINCOLN PARK CITY | LINCOLN PARK CITY IN WAYNE COUNTY.
LUCE COUNTY | LUCE COUNTY.
MACKINAC COUNTY | MACKINAC COUNTY.
MACOMB COUNTY | MACOMB COUNTY.
MANISTEE COUNTY | MANISTEE COUNTY.
MASON COUNTY | MASON COUNTY.
MECOSTA COUNTY | MECOSTA COUNTY.
MISSAUKEE COUNTY | MISSAUKEE COUNTY.
MONTCALM COUNTY | MONTCALM COUNTY.
MONTMORENCY COUNTY | MONTMORENCY COUNTY.
MOUNT MORRIS TOWNSHIP | MOUNT MORRIS TOWNSHIP IN GENESEE COUNTY.
MUSKEGON CITY | MUSKEGON CITY IN MUSKEGON COUNTY.
MUSKEGON COUNTY | MUSKEGON COUNTY.
NEWAYGO COUNTY | NEWAYGO COUNTY.
OAK PARK CITY | OAK PARK CITY IN OAKLAND COUNTY.
OCEANA COUNTY | OCEANA COUNTY.
OGEMAW COUNTY | OGEMAW COUNTY.
ONTONAGON COUNTY | ONTONAGON COUNTY.
OSCEOLA COUNTY | OSCEOLA COUNTY.
OSCODA COUNTY | OSCODA COUNTY.
OTSEGO COUNTY | OTSEGO COUNTY.
PONTIAC CITY | PONTIAC CITY IN OAKLAND COUNTY.
PORT HURON CITY | PORT HURON CITY IN ST. CLAIR COUNTY.
PRESQUE ISLE COUNTY | PRESQUE ISLE COUNTY.
ROSCOMMON COUNTY | ROSCOMMON COUNTY.
ROSEVILLE CITY | ROSEVILLE CITY IN MACOMB COUNTY.
SAGINAW CITY | SAGINAW CITY IN SAGINAW COUNTY.
SAGINAW COUNTY | SAGINAW COUNTY.
SANILAC COUNTY | SANILAC COUNTY.
SCHOOLCRAFT COUNTY | SCHOOLCRAFT COUNTY.
SHIAWASSEE COUNTY | SHIAWASSEE COUNTY.
SOUTHFIELD CITY | SOUTHFIELD CITY IN OAKLAND COUNTY.
ST. CLAIR SHORES CITY | ST. CLAIR SHORES CITY IN MACOMB COUNTY.
ST. CLAIR COUNTY | ST. CLAIR COUNTY.
ST. JOSEPH COUNTY | ST. JOSEPH COUNTY.
TAYLOR CITY | TAYLOR CITY IN WAYNE COUNTY.
TUSCOLA COUNTY | TUSCOLA COUNTY.
VAN BUREN COUNTY | VAN BUREN COUNTY.
WARREN CITY | WARREN CITY IN MACOMB COUNTY.
WATERFORD TOWNSHIP | WATERFORD TOWNSHIP IN OAKLAND COUNTY.
WAYNE COUNTY | WAYNE COUNTY.
WEXFORD COUNTY | WEXFORD COUNTY.
WYOMING CITY | WYOMING CITY IN KENT COUNTY.
MINNESOTA
CLEARWATER COUNTY | CLEARWATER COUNTY.
ITASCA COUNTY | ITASCA COUNTY.
KANABEC COUNTY | KANABEC COUNTY.
MARSHALL COUNTY | MARSHALL COUNTY.
MILLE LACS COUNTY | MILLE LACS COUNTY.
RED LAKE COUNTY | RED LAKE COUNTY.
WADENA COUNTY | WADENA COUNTY.
MISSISSIPPI
ADAMS COUNTY | ADAMS COUNTY.
ALCORN COUNTY | ALCORN COUNTY.
AMITE COUNTY | AMITE COUNTY.
ATTALA COUNTY | ATTALA COUNTY.
BENTON COUNTY | BENTON COUNTY.
BILOXI CITY | BILOXI CITY IN HARRISON COUNTY.
BOLIVAR COUNTY | BOLIVAR COUNTY.
CALHOUN COUNTY | CALHOUN COUNTY.
CARROLL COUNTY | CARROLL COUNTY.
CHICKASAW COUNTY | CHICKASAW COUNTY.
CHOCTAW COUNTY | CHOCTAW COUNTY.
CLAIBORNE COUNTY | CLAIBORNE COUNTY.
CLARKE COUNTY | CLARKE COUNTY.
CLAY COUNTY | CLAY COUNTY.
COAHOMA COUNTY | COAHOMA COUNTY.
COLUMBUS CITY | COLUMBUS CITY IN LOWNDES COUNTY.
OPIAH COUNTY | OPIAH COUNTY.
FRANKLIN COUNTY | FRANKLIN COUNTY.
GEORGE COUNTY | GEORGE COUNTY.
GREENE COUNTY | GREENE COUNTY.
GREENVILLE CITY | GREENVILLE CITY IN WASHINGTON COUNTY.
GRENADA COUNTY | GRENADA COUNTY.
GULFPORT CITY | GULFPORT CITY IN HARRISON COUNTY.
HANCOCK COUNTY | HANCOCK COUNTY.
HARRISON COUNTY | HARRISON COUNTY.
HATTIESBURG CITY | HATTIESBURG CITY IN FORREST COUNTY.
HOLMES COUNTY | HOLMES COUNTY.
HUMPHREYS COUNTY | HUMPHREYS COUNTY.
ISSAQUENA COUNTY | ISSAQUENA COUNTY.
JACKSON CITY | JACKSON CITY IN HINDS COUNTY. MADISON COUNTY. RANKIN COUNTY.
JACKSON COUNTY | JACKSON COUNTY.
JASPER COUNTY | JASPER COUNTY.
JEFFERSON COUNTY | JEFFERSON COUNTY.
JEFFERSON DAVIS COUNTY | JEFFERSON DAVIS COUNTY.
KEMPER COUNTY | KEMPER COUNTY.
LAUDERDALE COUNTY | LAUDERDALE COUNTY.
LAWRENCE COUNTY | LAWRENCE COUNTY.
LEAKE COUNTY | LEAKE COUNTY.
LEFLORE COUNTY | LEFLORE COUNTY.
LINCOLN COUNTY | LINCOLN COUNTY.
LOWNDES COUNTY | LOWNDES COUNTY.
MARION COUNTY | MARION COUNTY.
MARSHALL COUNTY | MARSHALL COUNTY.
MERIDIAN CITY | MERIDIAN CITY IN LAUDERDALE COUNTY.
MONROE COUNTY | MONROE COUNTY.
MONTGOMERY COUNTY | MONTGOMERY COUNTY.
NOXUBEE COUNTY | NOXUBEE COUNTY.
PANOLA COUNTY | PANOLA COUNTY.
PASCAGOULA CITY | PASCAGOULA CITY IN JACKSON COUNTY.
PEARL RIVER COUNTY | PEARL RIVER COUNTY.
PERRY COUNTY | PERRY COUNTY.
PIKE COUNTY | PIKE COUNTY.
PRENTISS COUNTY | PRENTISS COUNTY.
QUITMAN COUNTY | QUITMAN COUNTY.
SHARKEY COUNTY | SHARKEY COUNTY.
STONE COUNTY | STONE COUNTY.
SUNFLOWER COUNTY | SUNFLOWER COUNTY.
TALLAHATCHIE COUNTY | TALLAHATCHIE COUNTY.
TATE COUNTY | TATE COUNTY.
TIPPAH COUNTY | TIPPAH COUNTY.
TISHOMINGO COUNTY | TISHOMINGO COUNTY.
TUNICA COUNTY | TUNICA COUNTY.
UNION COUNTY | UNION COUNTY.
VICKSBURG CITY | VICKSBURG CITY IN WARREN COUNTY.
WALTHALL COUNTY | WALTHALL COUNTY.
WARREN COUNTY | WARREN COUNTY.
WASHINGTON COUNTY | WASHINGTON COUNTY.
WAYNE COUNTY | WAYNE COUNTY.
WEBSTER COUNTY | WEBSTER COUNTY.
WILKINSON COUNTY | WILKINSON COUNTY.
WINSTON COUNTY | WINSTON COUNTY.
YALOBUSHA COUNTY | YALOBUSHA COUNTY.
YAZOO COUNTY | YAZOO COUNTY.
MISSOURI
BATES COUNTY | BATES COUNTY.
CARTER COUNTY | CARTER COUNTY.
DENT COUNTY | DENT COUNTY.
DUNKLIN COUNTY | DUNKLIN COUNTY.
HENRY COUNTY | HENRY COUNTY.
HICKORY COUNTY | HICKORY COUNTY.
IRON COUNTY | IRON COUNTY.
JACKSON COUNTY | JACKSON COUNTY.
KANSAS CITY MO | KANSAS CITY MO IN CASS COUNTY. CLAY COUNTY. JACKSON COUNTY. PLATTE COUNTY.
LACLEDE COUNTY | LACLEDE COUNTY.
LINN COUNTY | LINN COUNTY.
MISSISSIPPI COUNTY | MISSISSIPPI COUNTY.
MORGAN COUNTY | MORGAN COUNTY.
NEW MADRID COUNTY | NEW MADRID COUNTY.
PEMISCOT COUNTY | PEMISCOT COUNTY.
REYNOLDS COUNTY | REYNOLDS COUNTY.
SHANNON COUNTY | SHANNON COUNTY.
ST. FRANCOIS COUNTY | ST. FRANCOIS COUNTY.
ST. LOUIS CITY | ST. LOUIS CITY
STONE COUNTY | STONE COUNTY.
SULLIVAN COUNTY | SULLIVAN COUNTY.
TANEY COUNTY | TANEY COUNTY.
TEXAS COUNTY | TEXAS COUNTY.
WASHINGTON COUNTY | WASHINGTON COUNTY.
WAYNE COUNTY | WAYNE COUNTY.
WRIGHT COUNTY | WRIGHT COUNTY.
MONTANA
BIG HORN COUNTY | BIG HORN COUNTY.
GLACIER COUNTY | GLACIER COUNTY.
LINCOLN COUNTY | LINCOLN COUNTY.
NEBRASKA
THURSTON COUNTY | THURSTON COUNTY.
NEW JERSEY
ATLANTIC CITY | ATLANTIC CITY IN ATLANTIC COUNTY.
BERKELEY TOWNSHIP | BERKELEY TOWNSHIP IN OCEAN COUNTY.
CAMDEN CITY | CAMDEN CITY IN CAMDEN COUNTY.
CAPE MAY COUNTY | CAPE MAY COUNTY.
CITY OF ORANGE TOWNSHIP | CITY OF ORANGE TOWNSHIP IN ESSEX COUNTY.
CUMBERLAND COUNTY | CUMBERLAND COUNTY.
EAST ORANGE CITY | EAST ORANGE CITY IN ESSEX COUNTY.
ELIZABETH CITY | ELIZABETH CITY IN UNION COUNTY.
GARFIELD CITY | GARFIELD CITY IN BERGEN COUNTY.
IRVINGTON TOWNSHIP | IRVINGTON TOWNSHIP IN ESSEX COUNTY.
JERSEY CITY | JERSEY CITY IN HUDSON COUNTY.
MILLVILLE CITY | MILLVILLE CITY IN CUMBERLAND COUNTY.
NEPTUNE TOWNSHIP | NEPTUNE TOWNSHIP IN MONMOUTH COUNTY.
NEWARK CITY | NEWARK CITY IN ESSEX COUNTY.
PASSAIC CITY | PASSAIC CITY IN PASSAIC COUNTY.
PATERSON CITY | PATERSON CITY IN PASSAIC COUNTY.
PERTH AMBOY CITY | PERTH AMBOY CITY IN MIDDLESEX COUNTY.
PLAINFIELD CITY | PLAINFIELD CITY IN UNION COUNTY.
TRENTON CITY | TRENTON CITY IN MERCER COUNTY.
UNION CITY | UNION CITY IN HUDSON COUNTY.
WEST NEW YORK TOWN | WEST NEW YORK TOWN IN HUDSON COUNTY.
WILLINGBORO TOWNSHIP | WILLINGBORO TOWNSHIP IN BURLINGTON COUNTY.
NEW MEXICO
CATRON COUNTY | CATRON COUNTY.
CHAVES COUNTY | CHAVES COUNTY.
GRANT COUNTY | GRANT COUNTY.
GUADALUPE COUNTY | GUADALUPE COUNTY.
LUNA COUNTY | LUNA COUNTY.
MCKINLEY COUNTY | MCKINLEY COUNTY.
MORA COUNTY | MORA COUNTY.
SAN MIGUEL COUNTY | SAN MIGUEL COUNTY.
TAOS COUNTY | TAOS COUNTY.
NEW YORK
BRONX COUNTY | BRONX COUNTY.
BUFFALO CITY | BUFFALO CITY IN ERIE COUNTY.
ELMIRA CITY | ELMIRA CITY IN CHEMUNG COUNTY.
HEMPSTEAD VILLAGE | HEMPSTEAD VILLAGE IN NASSAU COUNTY.
JEFFERSON COUNTY | JEFFERSON COUNTY.
KINGS COUNTY | KINGS COUNTY.
LEWIS COUNTY | LEWIS COUNTY.
NIAGARA FALLS CITY | NIAGARA FALLS CITY IN NIAGARA COUNTY.
OSWEGO COUNTY | OSWEGO COUNTY.
ROCHESTER CITY | ROCHESTER CITY IN MONROE COUNTY.
NORTH CAROLINA
ANSON COUNTY | ANSON COUNTY.
BEAUFORT COUNTY | BEAUFORT COUNTY.
BERTIE COUNTY | BERTIE COUNTY.
BLADEN COUNTY | BLADEN COUNTY.
BURKE COUNTY | BURKE COUNTY.
BURLINGTON CITY | BURLINGTON CITY IN ALAMANCE COUNTY.
CALDWELL COUNTY | CALDWELL COUNTY.
CASWELL COUNTY | CASWELL COUNTY.
CLEVELAND COUNTY | CLEVELAND COUNTY.
COLUMBUS COUNTY | COLUMBUS COUNTY.
EDGECOMBE COUNTY | EDGECOMBE COUNTY.
GASTONIA CITY | GASTONIA CITY IN GASTON COUNTY.
GOLDSBORO CITY | GOLDSBORO CITY IN WAYNE COUNTY.
GRAHAM COUNTY | GRAHAM COUNTY.
HALIFAX COUNTY | HALIFAX COUNTY.
HICKORY CITY | HICKORY CITY IN BURKE COUNTY. CATAWBA COUNTY.
JACKSONVILLE CITY | JACKSONVILLE CITY IN ONSLOW COUNTY.
KANNAPOLIS CITY | KANNAPOLIS CITY IN CABARRUS COUNTY. ROWAN COUNTY.
KINSTON CITY | KINSTON CITY IN LENOIR COUNTY.
MARTIN COUNTY | MARTIN COUNTY.
MCDOWELL COUNTY | MCDOWELL COUNTY.
MITCHELL COUNTY | MITCHELL COUNTY.
MONTGOMERY COUNTY | MONTGOMERY COUNTY.
NORTHAMPTON COUNTY | NORTHAMPTON COUNTY.
PERSON COUNTY | PERSON COUNTY.
RICHMOND COUNTY | RICHMOND COUNTY.
ROBESON COUNTY | ROBESON COUNTY.
ROCKINGHAM COUNTY | ROCKINGHAM COUNTY.
ROCKY MOUNT CITY | ROCKY MOUNT CITY IN EDGECOMBE COUNTY. NASH COUNTY.
ROWAN COUNTY | ROWAN COUNTY.
RUTHERFORD COUNTY | RUTHERFORD COUNTY.
SALISBURY CITY | SALISBURY CITY IN ROWAN COUNTY.
SCOTLAND COUNTY | SCOTLAND COUNTY.
SWAIN COUNTY | SWAIN COUNTY.
TYRRELL COUNTY | TYRRELL COUNTY.
VANCE COUNTY | VANCE COUNTY.
WARREN COUNTY | WARREN COUNTY.
WASHINGTON COUNTY | WASHINGTON COUNTY.
WILSON CITY | WILSON CITY IN WILSON COUNTY.
WILSON COUNTY | WILSON COUNTY.
YANCEY COUNTY | YANCEY COUNTY.
NORTH DAKOTA
PEMBINA COUNTY | PEMBINA COUNTY.
ROLETTE COUNTY | ROLETTE COUNTY.
SIOUX COUNTY | SIOUX COUNTY.
OHIO
ADAMS COUNTY | ADAMS COUNTY.
AKRON CITY | AKRON CITY IN SUMMIT COUNTY.
ASHLAND COUNTY | ASHLAND COUNTY.
ASHTABULA COUNTY | ASHTABULA COUNTY.
BARBERTON CITY | BARBERTON CITY IN SUMMIT COUNTY.
BELMONT COUNTY | BELMONT COUNTY.
BROWN COUNTY | BROWN COUNTY.
CANTON CITY | CANTON CITY IN STARK COUNTY.
CARROLL COUNTY | CARROLL COUNTY.
CINCINNATI CITY | CINCINNATI CITY IN HAMILTON COUNTY.
CLARK COUNTY | CLARK COUNTY.
CLEVELAND CITY | CLEVELAND CITY IN CUYAHOGA COUNTY.
COLUMBIANA COUNTY | COLUMBIANA COUNTY.
COSHOCTON COUNTY | COSHOCTON COUNTY.
CRAWFORD COUNTY | CRAWFORD COUNTY.
DAYTON CITY | DAYTON CITY IN MONTGOMERY COUNTY.
EAST CLEVELAND CITY | EAST CLEVELAND CITY IN CUYAHOGA COUNTY.
ERIE COUNTY | ERIE COUNTY.
EUCLID CITY | EUCLID CITY IN CUYAHOGA COUNTY.
GALLIA COUNTY | GALLIA COUNTY.
GARFIELD HEIGHTS CITY | GARFIELD HEIGHTS CITY IN CUYAHOGA COUNTY.
GUERNSEY COUNTY | GUERNSEY COUNTY.
HARRISON COUNTY | HARRISON COUNTY.
HOCKING COUNTY | HOCKING COUNTY.
HURON COUNTY | HURON COUNTY.
JACKSON COUNTY | JACKSON COUNTY.
JEFFERSON COUNTY | JEFFERSON COUNTY
LIMA CITY | LIMA CITY IN ALLEN COUNTY.
LORAIN CITY | LORAIN CITY IN LORAIN COUNTY.
LUCAS COUNTY | LUCAS COUNTY.
MAHONING COUNTY | MAHONING COUNTY.
MANSFIELD CITY | MANSFIELD CITY IN RICHLAND COUNTY.
MAPLE HEIGHTS CITY | MAPLE HEIGHTS CITY IN CUYAHOGA COUNTY.
MASSILLON CITY | MASSILLON CITY IN STARK COUNTY.
MEIGS COUNTY | MEIGS COUNTY.
MONROE COUNTY | MONROE COUNTY.
MONTGOMERY COUNTY | MONTGOMERY COUNTY.
MORGAN COUNTY | MORGAN COUNTY.
MUSKINGUM COUNTY | MUSKINGUM COUNTY.
NOBLE COUNTY | NOBLE COUNTY.
OTTAWA COUNTY | OTTAWA COUNTY.
PERRY COUNTY | PERRY COUNTY.
PICKAWAY COUNTY | PICKAWAY COUNTY.
PIKE COUNTY | PIKE COUNTY.
RICHLAND COUNTY | RICHLAND COUNTY.
RIVERSIDE CITY | RIVERSIDE CITY IN MONTGOMERY COUNTY.
ROSS COUNTY | ROSS COUNTY.
SANDUSKY CITY | SANDUSKY CITY IN ERIE COUNTY.
SCIOTO COUNTY | SCIOTO COUNTY.
SENECA COUNTY | SENECA COUNTY.
SPRINGFIELD CITY | SPRINGFIELD CITY IN CLARK COUNTY.
STARK COUNTY | STARK COUNTY.
TOLEDO CITY | TOLEDO CITY IN LUCAS COUNTY.
TROTWOOD CITY | TROTWOOD CITY IN MONTGOMERY COUNTY.
TRUMBULL COUNTY | TRUMBULL COUNTY.
VINTON COUNTY | VINTON COUNTY.
WARREN CITY | WARREN CITY IN TRUMBULL COUNTY.
XENIA CITY | XENIA CITY IN GREENE COUNTY.
YOUNGSTOWN CITY | YOUNGSTOWN CITY IN MAHONING COUNTY.
ZANESVILLE CITY | ZANESVILLE CITY IN MUSKINGUM COUNTY.
OKLAHOMA
COAL COUNTY | COAL COUNTY.
HUGHES COUNTY | HUGHES COUNTY.
MCCURTAIN COUNTY | MCCURTAIN COUNTY.
MUSKOGEE CITY | MUSKOGEE CITY IN MUSKOGEE COUNTY.
OKFUSKEE COUNTY | OKFUSKEE COUNTY.
OKMULGEE COUNTY | OKMULGEE COUNTY.
SEMINOLE COUNTY | SEMINOLE COUNTY.
WOODS COUNTY | WOODS COUNTY.
OREGON
ALBANY CITY | ALBANY CITY IN LINN COUNTY.
BAKER COUNTY | BAKER COUNTY.
COLUMBIA COUNTY | COLUMBIA COUNTY.
COOS COUNTY | COOS COUNTY.
CROOK COUNTY | CROOK COUNTY.
CURRY COUNTY | CURRY COUNTY.
DOUGLAS COUNTY | DOUGLAS COUNTY.
GRANT COUNTY | GRANT COUNTY.
GRESHAM CITY | GRESHAM CITY IN MULTNOMAH COUNTY.
HARNEY COUNTY | HARNEY COUNTY.
HOOD RIVER COUNTY | HOOD RIVER COUNTY.
JACKSON COUNTY | JACKSON COUNTY.
JOSEPHINE COUNTY | JOSEPHINE COUNTY.
KEIZER CITY | KEIZER CITY IN MARION COUNTY.
KLAMATH COUNTY | KLAMATH COUNTY.
LAKE COUNTY | LAKE COUNTY.
LANE COUNTY | LANE COUNTY.
BALANCE OF LANE COUNTY | LANE COUNTY LESS.
LINCOLN COUNTY | LINCOLN COUNTY.
LINN COUNTY | LINN COUNTY.
MALHEUR COUNTY | MALHEUR COUNTY.
MARION COUNTY | MARION COUNTY.
BALANCE OF MARION COUNTY | MARION COUNTY LESS.
MCMINNVILLE CITY | MCMINNVILLE CITY IN YAMHILL COUNTY.
MORROW COUNTY | MORROW COUNTY.
MULTNOMAH COUNTY | MULTNOMAH COUNTY.
BALANCE OF MULTNOMAH COUNTY | MULTNOMAH COUNTY LESS.
OREGON CITY | OREGON CITY IN CLACKAMAS COUNTY.
PORTLAND CITY | PORTLAND CITY IN CLACKAMAS COUNTY. MULTNOMAH COUNTY. WASHINGTON COUNTY.
SALEM CITY | SALEM CITY IN MARION COUNTY. POLK COUNTY.
SHERMAN COUNTY | SHERMAN COUNTY.
SPRINGFIELD CITY | SPRINGFIELD CITY IN LANE COUNTY.
TILLAMOOK COUNTY | TILLAMOOK COUNTY.
UMATILLA COUNTY | UMATILLA COUNTY.
UNION COUNTY | UNION COUNTY.
WALLOWA COUNTY | WALLOWA COUNTY.
WASCO COUNTY | WASCO COUNTY.
WHEELER COUNTY | WHEELER COUNTY.
YAMHILL COUNTY | YAMHILL COUNTY.
PENNSYLVANIA
ALLENTOWN CITY | ALLENTOWN CITY IN LEHIGH COUNTY.
ARMSTRONG COUNTY | ARMSTRONG COUNTY.
BEDFORD COUNTY | BEDFORD COUNTY.
CAMBRIA COUNTY | CAMBRIA COUNTY.
BALANCE OF CAMBRIA COUNTY | CAMBRIA COUNTY LESS.
CAMERON COUNTY | CAMERON COUNTY.
CHESTER CITY | CHESTER CITY IN DELAWARE COUNTY.
CLEARFIELD COUNTY | CLEARFIELD COUNTY.
FAYETTE COUNTY | FAYETTE COUNTY.
FOREST COUNTY | FOREST COUNTY.
GREENE COUNTY | GREENE COUNTY.
HARRISBURG CITY | HARRISBURG CITY IN DAUPHIN COUNTY.
HAZLETON CITY | HAZLETON CITY IN LUZERNE COUNTY.
HUNTINGDON COUNTY | HUNTINGDON COUNTY.
JOHNSTOWN CITY | JOHNSTOWN CITY IN CAMBRIA COUNTY.
MCKEESPORT CITY | MCKEESPORT CITY IN ALLEGHENY COUNTY.
NEW CASTLE CITY | NEW CASTLE CITY IN LAWRENCE COUNTY.
PHILADELPHIA CITY | PHILADELPHIA CITY IN PHILADELPHIA COUNTY.
PHILADELPHIA COUNTY | PHILADELPHIA COUNTY.
POTTER COUNTY | POTTER COUNTY.
READING CITY | READING CITY IN BERKS COUNTY.
WILKES-BARRE CITY | WILKES-BARRE CITY IN LUZERNE COUNTY.
WILLIAMSPORT CITY | WILLIAMSPORT CITY IN LYCOMING COUNTY.
YORK CITY | YORK CITY IN YORK COUNTY.
RHODE ISLAND
CENTRAL FALLS CITY | CENTRAL FALLS CITY IN PROVIDENCE COUNTY.
NEW SHOREHAM TOWN | NEW SHOREHAM TOWN.
SOUTH CAROLINA
ABBEVILLE COUNTY | ABBEVILLE COUNTY.
ALLENDALE COUNTY | ALLENDALE COUNTY.
ANDERSON CITY | ANDERSON CITY IN ANDERSON COUNTY.
ANDERSON COUNTY | ANDERSON COUNTY.
BAMBERG COUNTY | BAMBERG COUNTY.
BARNWELL COUNTY | BARNWELL COUNTY.
CALHOUN COUNTY | CALHOUN COUNTY.
CHEROKEE COUNTY | CHEROKEE COUNTY.
CHESTER COUNTY | CHESTER COUNTY.
CHESTERFIELD COUNTY | CHESTERFIELD COUNTY.
CLARENDON COUNTY | CLARENDON COUNTY.
COLLETON COUNTY | COLLETON COUNTY.
COLUMBIA CITY | COLUMBIA CITY IN RICHLAND COUNTY.
DARLINGTON COUNTY | DARLINGTON COUNTY.
DILLON COUNTY | DILLON COUNTY.
EDGEFIELD COUNTY | EDGEFIELD COUNTY.
FAIRFIELD COUNTY | FAIRFIELD COUNTY.
FLORENCE CITY | FLORENCE CITY IN FLORENCE COUNTY.
FLORENCE COUNTY | FLORENCE COUNTY.
GEORGETOWN COUNTY | GEORGETOWN COUNTY.
GREENVILLE CITY | GREENVILLE CITY IN GREENVILLE COUNTY.
GREENWOOD COUNTY | GREENWOOD COUNTY.
HAMPTON COUNTY | HAMPTON COUNTY.
LANCASTER COUNTY | LANCASTER COUNTY.
LAURENS COUNTY | LAURENS COUNTY.
LEE COUNTY | LEE COUNTY.
MARION COUNTY | MARION COUNTY.
MARLBORO COUNTY | MARLBORO COUNTY.
MC CORMICK COUNTY | MC CORMICK COUNTY.
NEWBERRY COUNTY | NEWBERRY COUNTY.
NORTH CHARLESTON CITY | NORTH CHARLESTON CITY IN CHARLESTON COUNTY.
OCONEE COUNTY | OCONEE COUNTY.
ORANGEBURG COUNTY | ORANGEBURG COUNTY.
PICKENS COUNTY | PICKENS COUNTY.
ROCKHILL CITY | ROCKHILL CITY IN YORK COUNTY.
SALUDA COUNTY | SALUDA COUNTY.
SPARTANBURG CITY | SPARTANBURG CITY IN SPARTANBURG COUNTY.
SPARTANBURG COUNTY | SPARTANBURG COUNTY.
SUMTER CITY | SUMTER CITY IN SUMTER COUNTY.
SUMTER COUNTY | SUMTER COUNTY.
UNION COUNTY | UNION COUNTY.
WILLIAMSBURG COUNTY | WILLIAMSBURG COUNTY.
YORK COUNTY | YORK COUNTY.
SOUTH DAKOTA
BUFFALO COUNTY | BUFFALO COUNTY.
CORSON COUNTY | CORSON COUNTY.
DEWEY COUNTY | DEWEY COUNTY.
JACKSON COUNTY | JACKSON COUNTY.
SHANNON COUNTY | SHANNON COUNTY.
ZIEBACH COUNTY | ZIEBACH COUNTY.
TENNESSEE
BENTON COUNTY | BENTON COUNTY.
BLEDSOE COUNTY | BLEDSOE COUNTY.
CARROLL COUNTY | CARROLL COUNTY.
CLAY COUNTY | CLAY COUNTY.
COCKE COUNTY | COCKE COUNTY.
COLUMBIA CITY | COLUMBIA CITY IN MAURY COUNTY.
CROCKETT COUNTY | CROCKETT COUNTY.
DECATUR COUNTY | DECATUR COUNTY.
FENTRESS COUNTY | FENTRESS COUNTY.
GIBSON COUNTY | GIBSON COUNTY.
GILES COUNTY | GILES COUNTY.
GREENE COUNTY | GREENE COUNTY.
GRUNDY COUNTY | GRUNDY COUNTY.
HANCOCK COUNTY | HANCOCK COUNTY.
HARDEMAN COUNTY | HARDEMAN COUNTY.
HARDIN COUNTY | HARDIN COUNTY.
HAYWOOD COUNTY | HAYWOOD COUNTY.
HENDERSON COUNTY | HENDERSON COUNTY.
HENRY COUNTY | HENRY COUNTY.
HOUSTON COUNTY | HOUSTON COUNTY.
HUMPHREYS COUNTY | HUMPHREYS COUNTY.
JACKSON CITY | JACKSON CITY IN MADISON COUNTY.
JACKSON COUNTY | JACKSON COUNTY.
JOHNSON COUNTY | JOHNSON COUNTY.
KINGSPORT CITY | KINGSPORT CITY IN HAWKINS COUNTY. SULLIVAN COUNTY.
LAKE COUNTY | LAKE COUNTY.
LAUDERDALE COUNTY | LAUDERDALE COUNTY.
LAWRENCE COUNTY | LAWRENCE COUNTY.
LEWIS COUNTY | LEWIS COUNTY.
MARSHALL COUNTY | MARSHALL COUNTY.
MEIGS COUNTY | MEIGS COUNTY.
MEMPHIS CITY | MEMPHIS CITY IN SHELBY COUNTY.
MORGAN COUNTY | MORGAN COUNTY.
MORRISTOWN CITY | MORRISTOWN CITY IN HAMBLEN COUNTY.
PERRY COUNTY | PERRY COUNTY.
PICKETT COUNTY | PICKETT COUNTY.
RHEA COUNTY | RHEA COUNTY.
SCOTT COUNTY | SCOTT COUNTY.
STEWART COUNTY | STEWART COUNTY.
TIPTON COUNTY | TIPTON COUNTY.
VAN BUREN COUNTY | VAN BUREN COUNTY.
WARREN COUNTY | WARREN COUNTY.
WAYNE COUNTY | WAYNE COUNTY.
WEAKLEY COUNTY | WEAKLEY COUNTY.
WHITE COUNTY | WHITE COUNTY.
TEXAS
ANDERSON COUNTY | ANDERSON COUNTY.
ARANSAS COUNTY | ARANSAS COUNTY.
BAYTOWN CITY | BAYTOWN CITY IN HARRIS COUNTY.
BEAUMONT CITY | BEAUMONT CITY IN JEFFERSON COUNTY.
BEE COUNTY | BEE COUNTY.
BROOKS COUNTY | BROOKS COUNTY.
BROWNSVILLE CITY | BROWNSVILLE CITY IN CAMERON COUNTY.
CALHOUN COUNTY | CALHOUN COUNTY.
CAMERON COUNTY | CAMERON COUNTY.
CASS COUNTY | CASS COUNTY.
COCHRAN COUNTY | COCHRAN COUNTY.
CORYELL COUNTY | CORYELL COUNTY.
DALLAS CITY | DALLAS CITY IN COLLIN COUNTY. DALLAS COUNTY. DENTON COUNTY.
DAWSON COUNTY | DAWSON COUNTY.
DEL RIO CITY | DEL RIO CITY IN VAL VERDE COUNTY.
DELTA COUNTY | DELTA COUNTY.
DIMMIT COUNTY | DIMMIT COUNTY.
DUVAL COUNTY | DUVAL COUNTY.
EL PASO CITY | EL PASO CITY IN EL PASO COUNTY.
EL PASO COUNTY | EL PASO COUNTY.
FANNIN COUNTY | FANNIN COUNTY.
FRIO COUNTY | FRIO COUNTY.
GALVESTON CITY | GALVESTON CITY IN GALVESTON COUNTY.
GRIMES COUNTY | GRIMES COUNTY.
HARDIN COUNTY | HARDIN COUNTY.
HARLINGEN CITY | HARLINGEN CITY IN CAMERON COUNTY.
HIDALGO COUNTY | HIDALGO COUNTY.
BALANCE OF HIDALGO COUNTY | HIDALGO COUNTY LESS.
HOUSTON CITY | HOUSTON CITY IN FORT BEND COUNTY. HARRIS COUNTY.
HOUSTON COUNTY | HOUSTON COUNTY.
HUDSPETH COUNTY | HUDSPETH COUNTY.
JASPER COUNTY | JASPER COUNTY.
JEFFERSON COUNTY | JEFFERSON COUNTY.
KARNES COUNTY | KARNES COUNTY.
KILLEEN CITY | KILLEEN CITY IN BELL COUNTY.
LANCASTER CITY | LANCASTER CITY IN DALLAS COUNTY.
LIBERTY COUNTY | LIBERTY COUNTY.
LOVING COUNTY | LOVING COUNTY.
LUFKIN CITY | LUFKIN CITY IN ANGELINA COUNTY.
MATAGORDA COUNTY | MATAGORDA COUNTY.
MAVERICK COUNTY | MAVERICK COUNTY.
MISSION CITY | MISSION CITY IN HIDALGO COUNTY.
MITCHELL COUNTY | MITCHELL COUNTY.
MORRIS COUNTY | MORRIS COUNTY.
NEWTON COUNTY | NEWTON COUNTY.
ORANGE COUNTY | ORANGE COUNTY.
PARIS CITY | PARIS CITY IN LAMAR COUNTY.
PASADENA CITY | PASADENA CITY IN HARRIS COUNTY.
PHARR CITY | PHARR CITY IN HIDALGO COUNTY.
POLK COUNTY | POLK COUNTY.
PORT ARTHUR CITY | PORT ARTHUR CITY IN JEFFERSON COUNTY.
PRESIDIO COUNTY | PRESIDIO COUNTY.
RED RIVER COUNTY | RED RIVER COUNTY.
REEVES COUNTY | REEVES COUNTY.
SABINE COUNTY | SABINE COUNTY.
SAN AUGUSTINE COUNTY | SAN AUGUSTINE COUNTY.
SAN JUAN CITY | SAN JUAN CITY IN HIDALGO COUNTY.
SAN PATRICIO COUNTY | SAN PATRICIO COUNTY.
SOCORRO CITY | SOCORRO CITY IN EL PASO COUNTY.
STARR COUNTY | STARR COUNTY.
TERRELL COUNTY | TERRELL COUNTY.
TEXARKANA CITY TEX | TEXARKANA CITY TEX IN BOWIE COUNTY.
TEXAS CITY | TEXAS CITY IN GALVESTON COUNTY.
TYLER COUNTY | TYLER COUNTY.
UVALDE COUNTY | UVALDE COUNTY.
VAL VERDE COUNTY | VAL VERDE COUNTY.
WESLACO CITY | WESLACO CITY IN HIDALGO COUNTY.
WILLACY COUNTY | WILLACY COUNTY.
ZAPATA COUNTY | ZAPATA COUNTY.
ZAVALA COUNTY | ZAVALA COUNTY.
UTAH
GARFIELD COUNTY | GARFIELD COUNTY.
OGDEN CITY | OGDEN CITY IN WEBER COUNTY.
SAN JUAN COUNTY | SAN JUAN COUNTY.
VIRGINIA
CHARLOTTE COUNTY | CHARLOTTE COUNTY.
DANVILLE CITY | DANVILLE CITY IN DANVILLE CITY.
EMPORIA CITY | EMPORIA CITY IN EMPORIA CITY.
GREENSVILLE COUNTY | GREENSVILLE COUNTY.
HALIFAX COUNTY | HALIFAX COUNTY.
HENRY COUNTY | HENRY COUNTY.
MARTINSVILLE CITY | MARTINSVILLE CITY IN MARTINSVILLE CITY.
PATRICK COUNTY | PATRICK COUNTY.
PETERSBURG CITY | PETERSBURG CITY IN PETERSBURG CITY.
SUSSEX COUNTY | SUSSEX COUNTY.
WILLIAMSBURG CITY | WILLIAMSBURG CITY.
WASHINGTON
ADAMS COUNTY | ADAMS COUNTY.
BREMERTON CITY | BREMERTON CITY IN KITSAP COUNTY.
CHELAN COUNTY | CHELAN COUNTY.
CLALLAM COUNTY | CLALLAM COUNTY.
CLARK COUNTY | CLARK COUNTY.
COLUMBIA COUNTY | COLUMBIA COUNTY.
COWLITZ COUNTY | COWLITZ COUNTY.
EVERETT CITY | EVERETT CITY IN SNOHOMISH COUNTY.
FERRY COUNTY | FERRY COUNTY.
FRANKLIN COUNTY | FRANKLIN COUNTY.
GRANT COUNTY | GRANT COUNTY.
GRAYS HARBOR COUNTY | GRAYS HARBOR COUNTY.
KLICKITAT COUNTY | KLICKITAT COUNTY.
LAKEWOOD CITY | LAKEWOOD CITY IN PIERCE COUNTY.
LEWIS COUNTY | LEWIS COUNTY.
LONGVIEW CITY | LONGVIEW CITY IN COWLITZ COUNTY.
MASON COUNTY | MASON COUNTY.
MOUNT VERNON CITY | MOUNT VERNON CITY IN SKAGIT COUNTY.
OKANOGAN COUNTY | OKANOGAN COUNTY.
PACIFIC COUNTY | PACIFIC COUNTY.
PASCO CITY | PASCO CITY IN FRANKLIN COUNTY.
PEND OREILLE COUNTY | PEND OREILLE COUNTY.
PIERCE COUNTY | PIERCE COUNTY.
SEA TAC CITY | SEA TAC CITY IN KING COUNTY.
SKAMANIA COUNTY | SKAMANIA COUNTY.
SPOKANE CITY | SPOKANE CITY IN SPOKANE COUNTY.
STEVENS COUNTY | STEVENS COUNTY.
TACOMA CITY | TACOMA CITY IN PIERCE COUNTY.
VANCOUVER CITY | VANCOUVER CITY IN CLARK COUNTY.
WAHKIAKUM COUNTY | WAHKIAKUM COUNTY.
WALLA WALLA CITY | WALLA WALLA CITY IN WALLA WALLA COUNTY.
WENATCHEE CITY | WENATCHEE CITY IN CHELAN COUNTY.
YAKIMA CITY | YAKIMA CITY IN YAKIMA COUNTY.
YAKIMA COUNTY | YAKIMA COUNTY.
WEST VIRGINIA
BROOKE COUNTY | BROOKE COUNTY.
CALHOUN COUNTY | CALHOUN COUNTY.
CLAY COUNTY | CLAY COUNTY.
HANCOCK COUNTY | HANCOCK COUNTY.
MASON COUNTY | MASON COUNTY.
MCDOWELL COUNTY | MCDOWELL COUNTY.
MINGO COUNTY | MINGO COUNTY.
PARKERSBURG CITY | PARKERSBURG CITY IN WOOD COUNTY.
ROANE COUNTY | ROANE COUNTY.
TYLER COUNTY | TYLER COUNTY.
WETZEL COUNTY | WETZEL COUNTY.
WIRT COUNTY | WIRT COUNTY.
WISCONSIN
ADAMS COUNTY | ADAMS COUNTY.
BELOIT CITY | BELOIT CITY IN ROCK COUNTY.
FOREST COUNTY | FOREST COUNTY.
GREEN BAY CITY | GREEN BAY CITY IN BROWN COUNTY.
IRON COUNTY | IRON COUNTY.
KENOSHA CITY | KENOSHA CITY IN KENOSHA COUNTY.
MANITOWOC CITY | MANITOWOC CITY IN MANITOWOC COUNTY.
MARQUETTE COUNTY | MARQUETTE COUNTY.
MENOMINEE COUNTY | MENOMINEE COUNTY.
MILWAUKEE CITY | MILWAUKEE CITY IN MILWAUKEE COUNTY.
RACINE CITY | RACINE CITY IN RACINE COUNTY.

[FR Doc. E6-19647 Filed 11-20-06; 8:45 am]

BILLING CODE 4510-30-P